FEDERAL ELECTION COMMISSION

11 CFR Parts 104, 107, 110, 9001, 9003, 9004, 9008, 9031, 9032, 9033, 9034, 9035, 9036, and 9038

[Notice 2003-23]

Public Financing of Presidential Candidates and Nominating Conventions; Announcement of Effective Date and Correction

AGENCY: Federal Election Commission.

ACTION: Final rules; announcement of effective date and correction.

SUMMARY: The Federal Election Commission announces that the final rules governing the public financing of Presidential candidates and nominating conventions that were published in the Federal Register on August 8, 2003, 68 FR 47386, are effective as of November 28, 2003. Additionally, the Commission is publishing a correction to the final rules. The correction: Removes the citation “11 CFR 9008.55(d)” from a subject heading; changes two references from “11 CFR 9008.55(e)” to “11 CFR 9008.55(d)”; and corrects an amendatory instruction. The corrections also are effective as of November 28, 2003.

EFFECTIVE DATE: November 28, 2003.

FOR FURTHER INFORMATION CONTACT: Ms. Mai T. Dinh, Acting Assistant General Counsel, 999 E Street, NW., Washington, DC 20463, (202) 694-1650 or (800) 424-9530.

SUPPLEMENTARY INFORMATION: The Federal Election Commission published a document in the Federal Register of August 8, 2003, at 68 FR 47386, containing revised regulations at 11 CFR 104.5, 107.2, 110.2, 9001.1, 9003.1, 9003.3, 9003.5, 9004.4, 9008.3, 9008.7, 9008.8, 9008.10, 9008.12, 9008.50, 9008.51, 9008.52, 9008.53, 9031.1, 9032.9, 9033.1, 9033.11, 9034.4, 9035.1, 9036.1, 9036.2, and 9038.2, and new regulations at 11 CFR 9004.11, 9008.55, 9034.10, and 9034.11. The Commission is announcing the effective date for these regulations. Section 9009(c) of Title 26, United States Code, require that any rules or regulations prescribed by the Commission to carry out the provisions of the Presidential Election Campaign Fund Act be transmitted to the Speaker of the House of Representatives and the President of the Senate thirty legislative days prior to final promulgation. These rules were transmitted to Congress on July 31, 2003. Thirty legislative days expired in the Senate and the House of Representatives on November 4, 2003.

The Commission's document published in the Federal Register on August 8, 2003, contained three incorrect references and one incorrect amendatory instruction. First, the document as published included a reference to a provision that was not adopted by the Commission. That provision was originally located in 11 CFR 9008.55(d). Prior to adopting the final rules, the Commission deleted 11 CFR 9008.55(d) and redesignated paragraph (e) of 11 CFR 9008.55 as paragraph (d). While this change was reflected in the regulatory text of 11 CFR 9008.55 and in its Explanation and Justification, the deleted provision was cited as 11 CFR 9008.55(d) in one instance. See 69 FR 47403 (third column). Thus, this correction deletes the misleading reference to “11 CFR 9008.55(d)” in the third column on page 47403.

Second, the document as published contained two incorrect references to the provision that was proposed to be 11 CFR 9008.55(e) but was redesignated in the final regulations to be 11 CFR 9008.55(d). This change was reflected in the regulatory text of 11 CFR 9008.55, but the Explanation and Justification for 11 CFR 9008.55 cited the redesignated provision as 11 CFR 9008.55(e) in two instances. See 69 FR 47404 (second and third columns). Thus, this correction changes the references in the second and third columns on page 47404 from “11 CFR 9008.55(e)” to “11 CFR 9008.55(d).”

Third, the document as published contained one incorrect amendatory instruction. Amendatory instruction 29 in the third column on page 47418, incorrectly identified 11 CFR 9031.1 as 11 CFR 9003.1. Thus, this correction changes this reference in amendatory instruction 29 in the third column on page 47418 from “11 CFR 9003.1” to “11 CFR 9031.1.”

Announcement of Effective Date

New 11 CFR 9004.11, 9008.55, 9034.10, and 9034.11 and amended 11 CFR 104.5, 107.2, 110.2, 9001.1, 9003.1, 9003.3, 9003.5, 9004.4, 9008.3, 9008.7, 9008.8, 9008.10, 9008.12, 9008.50, 9008.51, 9008.52, 9008.53, 9031.1, 9032.9, 9033.1, 9033.11, 9034.4, 9035.1, 9036.1, 9036.2, and 9038.2, as published at 68 FR 47386 (Aug. 8, 2003), and as corrected herein, are effective as of November 28, 2003.

Correction of Publication

In rule FR Doc 03-19893, published on August 8, 2003 (68 FR 47386), make the following corrections. On page 47403, in the third column, in the thirty-fourth line from the bottom, remove “11 CFR 9008.55(d)—”. On page 47404, in the second column, in the sixth line from the bottom (not including footnote text), replace “11 CFR 9008.55(e)” with “11 CFR 9008.55(d)”. On page 47404, in the third column, in the fourth line from the bottom (not including footnote text), replace “11 CFR 9008.55(e)” with “11 CFR 9008.55(d)”. On page 47418, in the third column, in the second through fifth lines from the top, correct the amendatory instruction 29 to read as follows:

29. Section 9031.1 is amended by removing the number “116” and adding in its place the number “400” in both instances in which “116” appears.

Dated: November 21, 2003.
Ellen L. Weintraub,
Chair, Federal Election Commission.

[FR Doc. 03-29616 Filed 11-26-03; 8:45 am]

BILLING CODE 6715-01-P